DEPARTMENT OF COMMERCE

International Trade Administration

North American Free-Trade Agreement, Article 1904; NAFTA Panel Reviews; Completion of Panel Review

AGENCY: NAFTA Secretariat, United States Section, International Trade Administration, Department of Commerce.

ACTION: Notice of Completion of Panel Review of the final determination made by the U.S. International Trade Administration, in the matter of Alloy Magnesium from Canada, CVD, New Shipper Review, Secretariat File No. USA-CDA-2003-1904-02.

SUMMARY: Pursuant to the Order of the Binational Panel dated September 9, 2005, affirming the final remand determination described above, the panel review was completed on October 21, 2005.

FOR FURTHER INFORMATION CONTACT: Caratina L. Alston, United States Secretary, NAFTA Secretariat, Suite 2061, 14th and Constitution Avenue, Washington, DC 20230, (202) 482-5438.

SUPPLEMENTARY INFORMATION: On September 9, 2005, the Binational Panel issued an order which affirmed the final determination of the United States International Trade Administration (ITA) concerning Alloy Magnesium from Canada, CVD, New Shipper Review. The Secretariat was instructed to issue a Notice of Completion of Panel Review on the 31st day following the issuance of the Notice of Final Panel Action, if no request for an Extraordinary Challenge was filed. No such request was filed. Therefore, on the basis of the Panel Order and Rule 80 of the Article 1904 Panel Rules, the Panel Review was completed and the panelists discharged from their duties effective October 21, 2005.

Dated: October 21, 2005.
Caratina L. Alston,
United States Secretary, NAFTA Secretariat.

[FR Doc. E5-6013 Filed 10-28-05; 8:45 am]

BILLING CODE 3510-GT-P